DEPARTMENT OF HEALTH AND HUMAN SERVICES

Centers for Medicare & Medicaid Services

[Document Identifier: CMS-668B, CMS-R-284, CMS-R-205, CMS-10187, and CMS-10116]

Agency Information Collection Activities: Submission for OMB Review; Comment Request

AGENCY: Centers for Medicare & Medicaid Services, HHS.

In compliance with the requirement of section 3506(c)(2)(A) of the Paperwork Reduction Act of 1995, the Centers for Medicare & Medicaid Services (CMS), Department of Health and Human Services, is publishing the following summary of proposed collections for public comment. Interested persons are invited to send comments regarding this burden estimate or any other aspect of this collection of information, including any of the following subjects: (1) The necessity and utility of the proposed information collection for the proper performance of the Agency's function; (2) the accuracy of the estimated burden; (3) ways to enhance the quality, utility, and clarity of the information to be collected; and (4) the use of automated collection techniques or other forms of information technology to minimize the information collection burden.

1. Type of Information Collection Request: Extension of a currently approved collection; Title of Information Collection: Post Clinical Laboratory Survey Questionnaire and Supporting Regulations in 42 CFR 493.1771, 493.1773, and 493.1777; Use: To provide an opportunity and a mechanism for Clinical Laboratory Improvement Amendments of 1988 (CLIA) laboratories surveyed by CMS or CMS' agents to express their satisfaction and concerns about the CLIA survey process.; Form Number: CMS-668B (OMB#: 0938-0653); Frequency: Recordkeeping, Reporting—Biennially; Affected Public: Business or other for-profit and Not-for-profit institutions; Number of Respondents: 21,000; Total Annual Responses: 10,500; Total Annual Hours: 2,625.

2. Type of Information Collection Request: Extension of a currently approved collection; Title of Information Collection: Medicaid Statistical Information System; Use: State data are reported by the Federally mandated electronic process, known as Medicaid Statistical Information System (MSIS). These data are the basis of actuarial forecasts for Medicaid service utilization and costs; of analysis and cost savings estimates required for legislative initiatives relating to Medicaid; and for responding to requests for information from CMS components, the Department, Congress and other customers.; Form Number: CMS-R-284 (OMB#: 0938-0345); Frequency: Quarterly; Affected Public: State, Local or Tribal Government; Number of Respondents: 53; Total Annual Responses: 212; Total Annual Hours: 2,120.

3. Type of Information Collection Request: Extension of a currently approved collection; Title of Information Collection: Information Collection Requirements Referenced in HIPAA, Title 1 for the Individual Market, supporting regulations at 45 CFR 148.120, 148.122, 148.124, 148.126, and 148.128, and Forms/instructions; Use: The provisions of Title I of the Health Insurance Portability and Accountability Act of 1996 (HIPAA) amend the Public Health Service Act (PHS Act) and are designed to make it easier for people to get access to health care coverage, reduce the limitations that can be put on the coverage, and limit the issuers' ability to terminate coverage. This information collection requirement will ensure that issuers in the individual market comply with Title 1 of HIPAA, provide individuals with certificates of creditable coverage necessary to demonstrate prior creditable coverage, file the necessary documentation with CMS for review in States that have Federal direct enforcement, and ensure States' flexibility to implement State alternative mechanisms. Individuals and their dependents need certificates of creditable coverage to take advantage of the rights they have under HIPAA. States and CMS need the information supplied by issuers to properly perform their regulatory functions under HIPAA and or existing State law.; Form Number: CMS-R-205 (OMB#: 0938-0703); Frequency: Recordkeeping, Third party disclosure, and Reporting—On Occasion; Affected Public: Individuals or Households, Business or other for-profit, Not-for-profit institutions and Federal, State, Local or Tribal Government; Number of Respondents: 1,042; Total Annual Responses: 2,987,501; Total Annual Hours: 868,147.

4. Type of Information Collection Request: New collection; Title of Information Collection: Evaluation of the Demonstration of Coverage of Chiropractic Services Under Medicare; Use: Section 651 of the Medicare Prescription Drug, Improvement and Modernization Act of 2003, authorizes a two-year demonstration “to evaluate the feasibility and advisability of covering chiropractic services under Medicare”. The Demonstration aims to evaluate both the costs and the benefits of expanded coverage for chiropractic services. The evaluation will examine the achievements as well as the difficulties inherent in demonstration implementation. The study includes a descriptive evaluation of the program, a survey of a total of 2,000 beneficiaries using expanded services, analyses of medical claims to determine service utilization and expenditures, as well as the cost impact on the Medicare program. These data will allow the researchers to examine use, effectiveness, and satisfaction of Medicare beneficiaries with the chiropractic services they receive in relation to their demographic and clinical characteristics. The results will help CMS to understand the user's experience with chiropractic services and with this Medicare demonstration.; Form Number: CMS-10187 (OMB#: 0938-New); Frequency: Reporting—Monthly; Affected Public: Individuals or Households; Number of Respondents: 2000; Total Annual Responses: 2000; Total Annual Hours: 667.

5. Type of Information Collection Request: Extension of a currently approved collection; Title of Information Collection: Conditions of Payment of Power Mobility Devices, including Power Wheelchairs and Power-Operated Vehicles (CMS-3017-IFC); Use: CMS-3017-IFC (Conditions for Payment of Power Mobility Devices, including Power Wheelchairs and Power-Operated Vehicles) provides further guidance with respect to the prescribing of and payment for Power Mobility Devices (PMDs). This rule defines the term power mobility devices (PMDs) as power wheelchairs and power operated vehicles (POVs or scooters). This rule conforms our regulations to section 302(a)(2)(E)(iv) of the Medicare Prescription Drug, Improvement, and Modernization Act of 2003 (MMA). The MMA mandated: (1) A face-to-face examination of the individual be conducted by a physician (as defined in section 1861(r)(1) of the Social Security Act (the Act)), a physician assistant, a nurse practitioner or a clinical nurse specialist (as those terms are defined in section 1861(aa)(5) of the Act; and (2) that payment may not be made for a power wheelchair unless the physician or treating practitioner has written a prescription for the item. With this information collection request, CMS is seeking approval for the collection requirements associated with CMS-3017-IFC (70 FR 50940).; Form Number: CMS-10116 (OMB#: 0938-0971); Frequency: Recordkeeping and Reporting—On occasion; Affected Public: Business or other for-profit, Not-for-profit institutions, Federal government, State, Local, or Tribal governments; Number of Respondents: 17,000; Total Annual Responses: 37,400; Total Annual Hours: 37,400.

To obtain copies of the supporting statement and any related forms for the proposed paperwork collections referenced above, access CMS Web site address at http://www.cms.hhs.gov/PaperworkReductionActof1995, or E-mail your request, including your address, phone number, OMB number, and CMS document identifier, to Paperwork@cms.hhs.gov, or call the Reports Clearance Office on (410) 786-1326.

Written comments and recommendations for the proposed information collections must be mailed or faxed within 30 days of this notice directly to the OMB desk officer: OMB Human Resources and Housing Branch, Attention: Carolyn Lovett, New Executive Office Building, Room 10235, Washington, DC 20503. Fax Number: (202) 395-6974.

Dated: May 15, 2006.
Michelle Shortt,
Director, Regulations Development Group, Office of Strategic Operations and Regulatory Affairs.

[FR Doc. E6-7944 Filed 5-25-06; 8:45 am]

BILLING CODE 4120-01-P